THE TENNESSEE VALLEY AUTHORITY

Executive Order 13891 Guidance Document Website Notice of Availability

Authorities: The Administrative Procedures Act, 5 U.S.C. 553; Presidential Executive Order 13891; and the Office of Management and Budget Memorandum M-20-02, entitled MEMORANDUM FOR REGULATORY POLICY OFFICERS AT EXECUTIVE DEPARTMENTS AND AGENCIES AND MANAGING AND EXECUTIVE DIRECTORS OF CERTAIN AGENCIES AND COMMISSIONS, regarding Guidance Implementing Executive Order 13891, Titled ”Promoting the Rule of Law Through Improved Agency Guidance Documents” from Dominic J. Mancini, Acting Administrator, Office of Information and Regulatory Affairs.

SUMMARY: The Tennessee Valley Authority (TVA) provides notice of availability of a new guidance portal on the TVA website, in accordance with Executive Order 13891 (E.O. 13891) and corresponding guidance from the Office of Management and Budget. TVA intends to place all guidance documents, as defined by E.O. 13891 and the Administrative Procedures Act, on the guidance portal from this point forward. All existing guidance documents on the new guidance portal will remain in effect as TVA guidance documents, and all forthcoming TVA guidance documents will be placed on the new guidance portal.

DATES: February 28, 2020.

Place: The Tennessee Valley Authority website, at www.tva.gov/guidance.

Contact Person for More Information: For more information, please contact Hill Henry, TVA Environment and Energy Policy, at (865) 632-6362, or at thhenry@tva.gov, Knoxville, Tennessee.

Travis Hill Henry,
Program Manager, Environmental and Energy Policy, Tennessee Valley Authority Counsel.

[FR Doc. 2020-04426 Filed 3-3-20; 8:45 am]

BILLING CODE 8120-08-P